POSTAL SERVICE

39 CFR Part 111

Eligibility Standards for Free Matter for the Blind and Other Physically Handicapped Persons

AGENCY: Postal Service.

ACTION: Proposed rule.

SUMMARY: This proposed rule amends the Domestic Mail Manual (DMM) to clarify and simplify the eligibility standards for Free Matter for the Blind and Other Physically Handicapped Persons in conformance, to the extent practicable, with similar standards adopted by the Library of Congress (LOC) for its National Library Service for the Blind and Physically Handicapped (NLS).

DATES: Comments on the proposed standards must be received on or before October 2, 2000.

ADDRESSES: Written comments should be delivered to the Manager, Mail Preparation and Standards, United States Postal Service, 475 L'Enfant Plaza SW., Room 6800, Washington, DC 20260-2405. Comments transmitted via facsimile and/or by email cannot be accepted. Copies of all written comments will be available for inspection and photocopying at USPS Headquarters Library, 475 L'Enfant Plaza SW. 11th Floor N, Washington, DC 20260-1450 between 9 a.m. and 4 p.m., Monday through Friday.

FOR FURTHER INFORMATION CONTACT: Joel Walker, 202-268-3340.

SUPPLEMENTARY INFORMATION: The Free Matter privilege was established by Act of Congress in 1904 to provide reading materials for the blind when sent by public institutions and public libraries as a loan to blind readers and when returned by the blind readers to those institutions. (Ch. 1612, 33 Stat. 313, Pub. L. No. 171.) In 1931, the national-books-for-the-blind program was established under the auspices of the Library of Congress to provide books for use by adult residents of the United States, “including the several States, Territories, insular possessions, and the District of Columbia.” (Ch. 400, 46 Stat. 1487, Pub. L. No. 787.) Standards for making arrangements for circulation of books (by way of the Free Matter privilege) to and from the blind users through libraries designated as local or regional centers were prescribed by the Librarian of Congress.

In 1966, Congress extended and expanded the books-for-the-blind-program to include other physically handicapped persons. (Pub. L. 89-522, 2 U.S.C. 135a and 135b.) Its purpose was to meet the reading needs of physically handicapped persons who cannot read or use conventional printed books because of impaired eyesight or other physical factors that make them unable physically to manipulate these materials. Certification by competent authority of individuals for eligibility to participate in the program was (and remains today) pursuant to regulations prescribed by the Librarian of Congress for this service. Henceforth, it became known as the National Library Service for the Blind and Physically Handicapped. See 36 CFR 701.10.

Consistent with the intent of Congress embodied in the Act that created the Library of Congress National Library Service for the Blind and Physically Handicapped, the Postal Reorganization Act (39 U.S.C. 3403(a)(1)) extended the Free Matter privilege to mail matter for the use of the blind or other persons who cannot use or read conventionally printed material because of a physical impairment and who are certified by competent authority in accordance with the regulations established by the Librarian of Congress. Accordingly, the Postal Service seeks now to clarify its eligibility standards for the Free Matter privilege to incorporate, as closely as practicable, the standards devised by the Librarian of Congress for establishing eligibility and certification for participation in the National Library Service for the Blind and Physically Handicapped. See 36 CFR 701.10.

Although exempt from the notice and comment requirements of the Administrative Procedure Act (5 U.S.C 410 (a)), the Postal Service invites comments on the following proposed revisions to the Domestic Mail Manual, incorporated by reference in the Code of Federal Regulations. See 39 CFR part 111.

For the reasons discussed above, the Postal Service hereby proposes the following amendments to the Domestic Mail Manual, which are incorporated by reference in the Code of Federal Regulations (see 39 CFR part 111).

List of Subjects in 39 CFR Part 111

Administrative practice and procedure, Postal Service.

PART 111—[AMENDED]

1. The authority citation for 39 CFR part 111 continues to read as follows:

Authority: 5 U.S.C. 552(a); 39 U.S.C. 101, 401, 403, 404, 414, 3001-3011, 3201-3219, 3403-3406, 3621, 3626, 5001.

2. Revise the Domestic Mail Manual as follows:

E Eligibility

E000 Special Eligibility Standards

* * * * *

[Amend E040 to insert the word “physically” before the word “handicapped” in each instance where it appears.]

E040 Free Matter for the Blind and Other Physically Handicapped Persons

1.0 BASIC INFORMATION

1.1 General

[Amend 1.1 to read as follows:]

Subject to the standards below, matter may be entered free of postage if mailed by or for the use of blind or other persons who cannot read or use conventionally printed materials due to a physical handicap. The provisions of E040 apply to domestic mail only.

* * * * *

[Amend titles and text of 1.3 and 1.4 and add new 1.5 and 1.6 to read as follows:]

1.3 Eligibility

The following persons are eligible to send and receive free matter in accordance with 2.2 below:

a. Certified Participants in the Library of Congress National Library Service for the Blind and Physically Handicapped (NLS).

b. Blind persons whose visual acuity, as determined by competent authority, is 20/200 or less in the better eye with correcting lenses, or whose widest diameter of visual field subtends angular distance no greater than 20 degrees.

c. Other physically handicapped persons are eligible as follows:

(1) Persons whose visual disability, with correction and regardless of optical measurement, is certified by competent authority as preventing the reading of standard printed material.

(2) Persons certified by competent authority as unable to read or unable to use standard printed material as a result of physical limitations.

(3) Persons certified by competent authority as having a reading disability resulting from organic dysfunction and of sufficient severity to prevent their reading printed material in a normal manner.

d. Eligible participants must be residents of the United States, including the several states, territories, insular possessions, and the District of Columbia, or eligible American citizens domiciled abroad.

1.4 Certifying Authority

For purposes of this standard:

a. In cases of blindness, visual impairment, or physical limitations, “competent authority” is defined to include doctors of medicine; doctors of osteopathy; ophthalmologists; optometrists; registered nurses; therapists; and professional staff of hospitals, institutions, and public or private welfare agencies (e.g., social workers, caseworkers, counselors, rehabilitation teachers, and superintendents). In the absence of any of these, certification may be made by professional librarians or by any person whose competence under specific circumstances is acceptable to the Library of Congress. See 36 C.F.R. sec. 701.10(b)(2)(i).

b. In the case of reading disability from organic dysfunction, competent authority is defined as doctors of medicine and doctors of osteopathy who may consult with colleagues in associated disciplines.

1.5 Certification by Organizations

Organizations using the Free Matter privilege to mail matter to persons who claim eligibility must certify that each recipient on its mailing list is eligible to receive free matter. Organizations using the Free Matter privilege to mail matter to eligible persons must maintain records to substantiate their eligibility consistent with those required by the Library of Congress on its applications for Free Library Service.

1.6 Qualifying Individuals

The United States Postal Service reserves the right to require individuals claiming entitlement to the Free Matter for the Blind or Other Physically Handicapped Persons privilege to furnish evidence of eligibility, consistent with the standards in 1.3, 1.4, and 1.5.

2.0 MATTER SENT TO BLIND OR OTHER PHYSICALLY HANDICAPPED PERSONS

2.1 Acceptable Matter

Subject to 2.2, this matter may be mailed free:

[Amend item a by adding “in braille or 14-point or larger sightsaving type” to read as follows:]

a. Reading matter in braille or 14-point or larger sightsaving type and musical scores.

* * * * *

2.2 Conditions

The matter listed in 2.1 must meet these conditions:

[Amend item d by adding “as defined in E211” to read as follows:]

d. The matter contains no advertising as defined in E211.

* * * * *

3.0 MATTER SENT BY BLIND OR OTHER PHYSICALLY HANDICAPPED PERSONS

[Amend 3.1 to read as follows:]

3.1 Acceptable Letters

Only letters in braille or in 14-point or larger sightsaving type or in the form of sound recordings, and containing no advertising, may be mailed free, and only if unsealed and sent by a blind or other physically handicapped person as described in 1.3.

* * * * *

An appropriate amendment to 39 CFR part 111 will be published if the proposal is adopted.

Stanley F. Mires,
Chief Counsel, Legislative.

[FR Doc. 00-22215 Filed 8-31-00; 8:45 am]

BILLING CODE 7710-12-P